DEPARTMENT OF TREASURY

Internal Revenue Service

Appointment of Members of the Legal Division to the Performance Review Board, Internal Revenue Service

Under the authority granted to me as Acting Chief Counsel of the Internal Revenue Service by the General Counsel of the Department of the Treasury by General Counsel Directive 15, pursuant to the Civil Service Reform Act, I have appointed the following persons to the Legal Division Performance Review Board, Internal Revenue Service Panel:

1. Eric S. Nguyen, Deputy General Counsel, Department of the Treasury—Chair

2. Holly O. Paz, Commissioner, Large Business and International Division (IRS)

3. Edward T. Killen, Deputy Division Commissioner, Tax Exempt and Government Entities (IRS)

Alternate: James C. Lee, Deputy Chief, Criminal Investigation (IRS)

This publication is required by 5 U.S.C. 4314(c)(4).

William M. Paul,
Chief Counsel (Acting), Internal Revenue Service.

[FR Doc. 2023-22416 Filed 10-6-23; 8:45 am]

BILLING CODE 4830-01-P